DEPARTMENT OF AGRICULTURE

Farm Service Agency

Commodity Credit Corporation

Office of the Secretary; Privacy Act of 1974; System of Records

AGENCY: Department of Agriculture, USDA.

ACTION: Notice of a modified system of records.

SUMMARY: As required by the Privacy Act of 1974, and Office of Management and Budget (OMB) Circular No. A-108, this notice proposes that the United States Department of Agriculture (USDA or Department) revisions to the Privacy Act System of Records titled Applicant/Borrower USDA/FSA-14, which include information on current, former, and prospective applicants and borrowers including members of entities. The system contains information on agricultural producers in the United States requesting or obtaining the Farm Service Agency (FSA) Farm Loan Programs benefits. In general, USDA proposes to revise the system of records to make minor corrections and updates to meet additional requirements. USDA is also revising the system of records to add 10 new routine uses.

DATES: Comment Dates: We will consider comments that we receive on or before April 22, 2019.

Effective Date: This notice is applicable upon publication, subject to a 30-day comment period for the routine uses.

ADDRESSES: We invite you to submit comments on this notice. In your comment, include the system of records number (USDA/FSA-14). You may submit comments by any of the following methods:

• Federal e-Rulemaking Portal: http://www.regulations.gov. Follow the instructions for submitting comments.

• Mail, hand delivery, or courier: USDA, Farm Production and Conservation, Farm Service Agency, STOP 0508, 1400 Independence Ave. SW, Washington, DC 20250-0508.

All comments will be made public by USDA and will be posted without change to http://www.regulations.gov, including any personal information provided.

FOR FURTHER INFORMATION CONTACT: John Shea, Acting Director, External Affairs, Farm Production and Conservation-Business Center, 1400 Independence Ave. SW, Room 6740 South Building, Washington, DC 20250, email address—john.shea@rma.usda.gov, 202-690-0437; or Kaveh Sadeghzadeh, Acting Director, External Affairs, Farm Production and Conservation-Business Center, 1400 Independence Ave. SW, Room 6121, Washington, DC 20250, email address—Kaveh.Sadeghzadeh@wdc.usda.gov, 202-720-2182, or Philip Buchan, (301) 504-1701, Philip.Buchan@wdc.usda.gov. Persons with disabilities or who require alternative means for communications should contact the USDA Target Center at (202) 720-2600 (voice).

SUPPLEMENTARY INFORMATION: USDA maintains the Applicant/Borrower USDA/FSA-14 Privacy Act system of records to collect and manage information on current, former, and prospective applicants and borrowers who are agricultural producers in the United States including members of entities. The mission of FSA is to deliver federal farm program benefits and loans to farm and ranch owners and operators to support farms and ranches, protect the environment, and enhance the marketing of agricultural products. The system of records covers information regarding current, former, and prospective applicants, and current and former borrowers.

The last revision of Privacy Act system of records for USDA/FSA-14 was published in the Federal Register on September 10, 2001 (66 FR 46986-46991).

USDA is making changes throughout the systems of records for required updates, clarity, and other minor administrative updates to the systems. USDA is also expanding the types of individuals in the categories of the individuals covered in this system of records. USDA is also replacing the list of specific automated processing systems in the system of records by referring the public to the FSA website for the current and specific automated processing systems. In addition, USDA is change to the following sections:

• System Classification,

• System Location;

• System of manager(s);

• Authority for maintenance of the system;

• Purpose(s) of the system;

• Categories of individual covered by the system;

• Categories of records in the system;

• Record source categories;

• Routine uses of records maintained in the system, including categories of users and the purposes of such use;

• Policies and practices for storage of records;

• Policies and practices for retention and disposal of records;

• Administrative, technical, and physical safeguards,

• Record Access Procedures;

• Contesting record procedures; and

• Notification procedure; and

• History.

USDA is revising the current designations in USDA/FSA-14 from a numbered routine use designation to a lettered designation and reordering the current routine uses. In addition, USDA is establishing 10 new routine uses, revising 1 existing routine use, removing 1 unnecessary routine use, and making miscellaneous minor adjustments throughout the system of records notice to update and better reflect the information in the system of records and to update the system of records notice to comply with all applicable laws. USDA added a purpose section to describe the purpose for which FSA uses the systems. Each of the revised and new routine uses are discussed below. Specifically, USDA is:

1. Revising currently designated routine uses to lettered designations and reordering the routine uses;

2. Revising currently designated routine uses 1 through 5, and 7 through 17;

3. Adding 10 new routine uses to be designated as routine uses C, D, E, F, U, V, W, X, Y, and Z, and

4. Deleting currently designated routine use 6.

The revised designations and order are shown in the following table, listed in the new order:

Redesignated routine use letter | Former routine use number | Status (new, revised, redesignated, or deleted)
A | 13 | redesignated.
B | 4 | redesignated.
C |  | new.
D |  | new.
E |  | new.
F |  | new.
G | 1 | redesignated.
H | 2 | redesignated.
I | 3 | redesignated.
J | 5 | redesignated.
K | 7 | redesignated.
L | 8 | redesignated.
M | 9 | redesignated.
N | 10 | redesignated.
O | 11 | redesignated.
P | 12 | redesignated.
Q | 14 | Revised and redesignated.
R | 15 | redesignated.
S | 16 | redesignated.
T | 17 | redesignated.
U |  | new.
V |  | new.
W |  | new.
X |  | new.
Y |  | new.
Z |  | new.
| 6 | deleted.

Proposed Revised Routine Use Q (Formerly Routine Use 14)

USDA is revising routine use Q to establish that FSA will disclose records to the Department of Housing and Urban Development in support of the Credit Alert Verification Reporting System (CAIVRS). CAIVRS is a Federal Government database of delinquent federal debtors that when reviewed, allows federal agencies to reduce the risk to federal loan and loan guarantee programs. CAIVRS alerts participating federal lending agencies when an applicant for credit benefits has a federal lien, judgment, or a federal loan that is currently in default or foreclosure, or has had a claim paid by a reporting agency. CAIVRS allows authorized employees of participating federal agencies to access a database of delinquent federal borrowers for the purpose of pre-screening direct loan applicants for credit worthiness and also permits approved private lenders acting on behalf of the federal agency to access the delinquent borrower database for the purpose of pre-screening the credit worthiness of applicants for federally guaranteed loans. CAIVRS authority is from the Computer Matching and Privacy Protection Act of 1988 (Pub. L. 100-503) as amended, Office of Management and Budget (OMB) Circular A-129 Revised (Policies for Federal Credit Programs and Non-Tax Receivables), and the Budget and Accounting Acts of 1921 and 1950, as amended, the Debt Collection Act of 1982, as amended, the Deficit Reduction Act of 1984, as amended, and the Debt Collection Improvement Act of 1996, as amended.

Proposed New Routine Use C

USDA is adding a new routine use C to establish that FSA will disclose the records to the National Archives and Records Administration or to the General Services Administration for records management program purposes as specified in 44 U.S.C. 2906(a)(1).

Proposed New Routine Use D

USDA is adding a new routine use D to establish that FSA will disclose the records to an agency, organization, or individual that is required for performing audit or oversight operations as authorized by law.

Proposed New Routine Use E

USDA is adding a new routine use E to establish that under the identified conditions, FSA will disclose the records to appropriate agencies, entities, and persons in response to a suspected or confirmed information security incident or breach.

Proposed New Routine Use F

USDA is adding a new routine use F to establish that FSA will disclose the records to contractors and their agents, grantees, experts, consultants, and others performing or working on a contract, grant, cooperative agreement, or other assignment for USDA when certain conditions are met.

Proposed New Routine Use U

USDA is adding a new routine use U to establish that FSA will disclose the records to those persons or federal, State, local, or tribal agencies working in cooperation with the USDA Secretary in any USDA program.

Proposed New Routine Use V

USDA is adding a new routine use V to establish that FSA will disclose the records to consumer reporting agencies.

Proposed New Routine Use W

USDA is adding a new routine use W to establish that FSA will disclose the records in accordance with the Federal Funding Accountability and Transparency Act of 2006 (Pub. L. 109-282; codified at 31 U.S.C. 6101-6104); section 204 of the E-Government Act of 2002 (Pub. L. 107-347; 44 U.S.C. 3501 noted), and the Office of Federal Procurement Policy Act (41 U.S.C. 1102-1122), or similar laws.

Proposed New Routine Use X

USDA is adding a new routine use X to establish that FSA will disclose the records to the news media and the public.

Proposed New Routine Use Y

USDA is adding new routine use Y to establish that FSA will disclose records to the Department of the Treasury in support of the Do Not Pay program. In order to help eliminate waste, fraud, and abuse in federal programs, federal agencies are to focus on preventing payment errors before they occur. The purpose of the Do Not Pay program is to reduce improper payments by intensifying efforts to eliminate payment error, waste, fraud, and abuse in the major programs administered by the Federal Government, while continuing to ensure that federal programs serve and provide access to their intended beneficiaries. Federal agencies will do a thorough review of the Do Not Pay computer matching database, to the extent permitted by law determine applicant eligibility before the release of any federal funds. By checking the Do Not Pay database before making payments, federal agencies can identify ineligible recipients and prevent certain improper payments from being made. The Do Not Pay program authority is from the Improper Payments Elimination and Recovery Improvement Act of 2012 (Pub. L. 112-248).

Proposed New Routine Use Z

USDA is adding new routine use Z to disclose records to another Federal entity or Federal entity, when information from this system of records is reasonably necessary to assist the recipient agency or entity in (1) responding to a suspected or confirmed breach or (2) preventing, minimizing, mitigating, or remedying the risk of harm to individuals, the agency (including its information systems, programs, and operations), the Federal Government, or national security.

Deleted Routine Use 6

USDA is deleting routine use number 6. The deleted routine use addressed disclosure of information to a court or adjudicative body before which the agency was authorized to appear. This routine use is addressed under redesignated routine use A.

Privacy Act

As required by the Privacy Act (specifically 5 U.S.C. 552a(r)) and implemented by the Office of Management and Budget (OMB) Circular A-108, USDA has provided a report of this system of records to the Office of Information and Regulatory Affairs, Office of Management and Budget; the Chairman, Committee on Government Reform and Oversight, House of Representatives; and the Chairman, Committee on Governmental Affairs, United States Senate.

Richard Fordyce,
Administrator, Farm Service Agency.
Thomas W. Christensen,
Acting Executive Vice President, Commodity Credit Corporation.

SYSTEM NAME AND NUMBER

Applicant/Borrower, USDA/FSA-14.

SECURITY CLASSIFICATION:

Unclassified.

SYSTEM LOCATION:

This system of records is under the control of the Deputy Administrator, Farm Loan Programs, Farm Service Agency (FSA), 1400 Independence Avenue SW, Stop 0520, Washington, DC 20250-0520.

Records are maintained at the FSA county offices through which the financial assistance was sought or obtained: The FSA State offices; the Farm Loan Programs Office, FSA, 1400 Independence Ave, SW, Stop 0520, Washington, DC 20250-0520; the Financial Management Division, FSA, 4300 Goodfellow Boulevard, Building 104, Stop FC 51, St. Louis, MO 63120-1703; and the USDA National Information Technology Center, 8930 Ward Parkway, Kansas City, MO 64114-3302. The address of each FSA county office and FSA State office can be found in the local telephone directory under the heading “United States Government, Department of Agriculture, Farm Service Agency.”

SYSTEM MANAGER(S):

Bill Cobb, Acting. Deputy Administrator, Farm Loan Programs, FSA, 1400 Independence Avenue SW, Stop 0520, Washington, DC 20250-0520, bill.cobb@wdc.usda.gov, (202) 720-1059.

AUTHORITY FOR MAINTENANCE OF THE SYSTEM:

7 U.S.C. 1921-2009.

PURPOSE(S) OF THE SYSTEM:

To deliver federal farm loan programs benefits to farm and ranch owners and operators to support farms and ranches and protect the environment.

CATEGORIES OF INDIVIDUALS COVERED BY THE SYSTEM:

Current, former, and prospective producers or landowners, farm and ranch owners, operators, tenants, applicants, and borrowers, cooperators, representatives of including members of entities.

CATEGORIES OF RECORDS IN THE SYSTEM:

The information in the system of records consists of electronic and hard copy documentation of participation in FSA programs, including active programs as well as discontinued programs. The information in the system of records consists of files containing characteristics of applicants and borrowers and their respective household members, such as such as gross and net income, sources of income, capital, assets, liabilities, net worth, age, race, number of dependents, marital status, reference material, farm or ranch operating plans, property appraisals, credit reports, and personal references from credit agencies, lenders, businesses, and individuals. In addition, a running record of observation concerning the operations of the person being financed is included. A record of deposits to and withdrawals from an individual's supervised bank account is also contained in those files where appropriate.

A listing of the automated systems processing the records (that is, the FSA Systems Inventory Book) may be found through a search on the USDA-FSA home page (http://www.fsa.usda.gov). The FSA Systems Inventory Book is detailed reference guide, sourced from the FSA Systems Inventory, which compiles descriptive data and characteristics pertaining to each system, sub-system, and component; organized by Investment Number. The FSA Systems Inventory Book is prepared to provide additional information including the nature and character of the programs themselves, including the overall Information Technology (IT) environment of systems, subsystems, and components supporting them. The FSA Systems Inventory Book helps tie business and applications or systems and infrastructure back to their reason for existence—supporting the mission of FSA.

The FSA Systems Inventory Book also maintains information about inactive, retired, and transferred systems; summary of systems listed by office; and current IT Investment listing. It is updated and published twice a year, with a wide distribution to FSA employees, contractors, and both Government and non-Government visitors.

RECORDS SOURCE CATEGORIES:

Information in this system of records is provided by the individual borrower, credit reports, and personal references from credit agencies and creditors.

ROUTINE USES OF RECORDS MAINTAINED IN THE SYSTEM, INCLUDING CATEGORIES OF USERS AND THE PURPOSES OF SUCH USES:

Records or information contained in this system of records may be disclosed outside USDA as a routine use (see 5 U.S.C. 552a(b)(3)) as follows:

A. To the Department of Justice when:

1. USDA or any part of USDA;

2. Any USDA employee in an official capacity if the Department of Justice has agreed to represent the employee; or

3. The United States Government is a party to litigation or has an interest in such litigation, and by careful review, USDA determines that the records are both relevant and necessary to the litigation and the use of such records by the Department of Justice is therefore deemed by USDA to be for a purpose that is compatible with the purpose for which FSA collected the records.

B. To a Member of Congress or to a Congressional staff member in response to a request of the Congressional office made at the written request of the constituent about whom the record is maintained.

C. To the National Archives and Records Administration or to the General Services Administration, for records management inspections conducted as specified in 44 U.S.C. 2904 and 2906.

D. To an agency, organization, or individual for the purpose of performing audit or oversight operations as authorized by law, but only such information as is necessary and relevant to the specific audit or oversight.

E. To appropriate agencies, entities, and persons when (1) USDA suspects or has confirmed that there has been a breach of the system of records; (2) USDA has determined that as a result of the suspected or confirmed breach there is a risk of harm to individuals, USDA (including its information systems, programs, and operations), the Federal Government, or national security; and (3) the disclosure made to such agencies, entities, and persons is reasonably necessary to assist in connection with USDA's efforts to respond to the suspected or confirmed breach or to prevent, minimize, or remedy such harm.

F. To contractors, grantees, experts, consultants, and their agents, and others performing or working on a contract, grant, cooperative agreement, or other assignment for USDA, when necessary to accomplish a USDA function related to this system of records. Individuals provided information under this routine use are subject to the same Privacy Act requirements and limitations on disclosure as are applicable to USDA officers and employees.

G. When a record on its face, or in conjunction with other records, indicates a violation or potential violation of law, whether civil, criminal, or regulatory in nature, and whether arising by general law or particular program law, or by regulation, rule, or order issued as a result of that law, disclosure may be made to the appropriate agency, whether federal, foreign, State, local, or Tribal, or other public authority responsible for enforcing, investigating, or prosecuting such violation or charged with enforcing or implementing the law, rule, regulation, or order issued as a result of that law, if the information disclosed is relevant to any enforcement, regulatory, investigative, or prosecutive responsibility of the receiving entity.

H. To business firms in a trade area that buy chattel or crops or sell them for commission. The disclosure may include the name, home address, Social Security Numbers, and financial information. This is being done so that FSA may benefit from the purchaser notification provisions of section 1324 of the Food Security Act of 1985 (7 U.S.C. 163(e)), which requires that potential purchasers of farm commodities must be advised ahead of time that a lien exists in order for the creditor to perfect its lien against such purchases.

I. To the appropriate authority when a default involves a security interest in Indian reservation. The disclosure may include the name, home address, and information concerning default on loan repayment. Pursuant to the section 335 (e) of the Consolidated Farm and Rural Development Act (7 U.S.C. 1985), liquidation may be pursued only after offering to transfer the account to an eligible tribal member, to and Indian corporate entity of the tribe, or the tribe.

J. To a collection or servicing contractor, financial institution, or a federal, State, or local agency, when FSA determines such referral is appropriate for servicing or collecting the borrower's account or as provided in contracts with servicing or collection agencies. The disclosure may include name, home address, Social Security Number, and financial information.

K. To financial consultants, advisors, lending institutions, packagers, agents, and private or commercial credit sources when FSA determines such referral is appropriate to encourage the borrowers to refinance their FSA indebtedness as required by section 345 (e) of the Consolidated Farm and Rural Development Act (7 U.S.C. 1993). The disclosure may include name, address, and financial information for selected borrowers.

L. To the Department of the Treasury, Internal Revenue Service (IRS), any legally enforceable debt(s), to be offset against any tax refund that may become due to the debtor for the tax year in which the referral is made, in accordance with the IRS regulations in 26 CFR 301.6402-6T, “Offset of Past Due Legally Enforceable Debt Against Overpayment,” and under the authority in 31 U.S.C. 3720A.

M. To the Defense Manpower Data Center, Department of Defense, and the United States Postal Service any information regarding indebtedness, for the purpose of conducting computer matching programs to identify and locate individuals receiving federal salary or benefit payments and who are delinquent in their repayment of debts owed to the U.S. Government under certain programs administered by FSA in order to collect debts under the provisions of the Debt Collection Act of 1982 (Pub. L. 97-365) by voluntary repayment, administrative or salary offset procedures, or by collection agencies.

N. To lending institutions any financial information when FSA determines the individual may be financially capable of qualifying for credit with or without a guarantee. The referral may contain name, home address, and financial information.

O. To lending institutions that have a lien against the same property as FSA, for the purpose of the collection of the debt for loans under the direct or guaranteed loan programs. Disclosure may include names, home addresses, Social Security Numbers, and financial information.

P. To private attorneys under contract with either FSA or with the Department of Justice for the purpose of foreclosure and possession actions and collection of past due accounts in connection with FSA loans.

Q. The Department of Housing and Urban Development, Credit Alert Interactive Verification Reporting System (CAIVRS), for its use in providing information to federal agencies and private lenders to assist in evaluating the credit worthiness of federal loan applicants. Information may be disclosed to federal agencies pursuant to the Debt Collection Improvement Act and related authorities for any purpose related to debt collection, including locating debtors for debt collection efforts and/or effecting remedies against monies payable to such debtors by the Federal Government. In accordance with computer matching or data sharing programs, information may be disclosed to federal agencies. The disclosure may include the applicant's name, home address, Social Security Number, and income or financial information.

R. To the Department of Labor, State Wage Information Collection agencies, and other federal, State, and local agencies, as well as those responsible for verifying information furnished to qualify for federal benefits, to conduct wage and benefit matching through manual or automated means, for the purpose of determining compliance with federal regulations and appropriate servicing actions against those not entitled to program benefits, including possible recovery of improper benefits. This may include name, home addresses, Social Security Numbers, and financial information.

S. To financial consultants, advisors, or underwriters, when FSA determines such referral is appropriate for developing packaging and marketing strategies involving the sale of FSA loan assets. The referral may include names, home addresses, and financial information.

T. To State-certified or State-licensed appraisers and employees of federal agencies qualified to perform and actually performing real estate appraisals for USDA. Records that will be disclosed include only the data that is necessary for the appraiser to complete the appraisal.

U. To cooperating persons or federal, State, local, or Tribal agencies working in cooperation with the Secretary in any USDA program. Records that will be disclosed include only the data that is necessary for the cooperating person or agency to complete work on the USDA program.

V. To consumer reporting agencies as defined in the Fair Credit Reporting Act (15 U.S.C. 1681a(f)) or the Federal Claims Collection Act, as amended (31 U.S.C. 3701(a)(3)).

W. USDA will disclose information about individual from this system of records in accordance with the Federal Funding Accountability and Transparency Act of 2006 (31 U.S.C. 6101-6106); section 204 of the E-Government Act of 2002 (44 U.S.C. 3501 note), and the Office of Federal Procurement Policy Act (41 U.S.C. 403-440), or similar laws requiring agencies to make available publicly names, locations, and other information concerning federal financial assistance, including grants, subgrants, loan awards, cooperative agreements and other financial assistance; and contracts, subcontracts, purchase orders, task orders, and delivery orders.

X. To the media and the public, in consultation with counsel, when there exists a legitimate public interest in the disclosure of the information or when disclosure is necessary to preserve confidence in the integrity of USDA or is necessary to demonstrate the accountability of USDA's officers, employees, or individuals covered by the system, except to the extent it is determined that release of the specific information in the context of a particular case would constitute an unwarranted invasion of personal privacy.

Y. To the Department of Treasury for administering the Do Not Pay Initiative under the Improper Payments Elimination and Recovery Improvement Act of 2012 (IPERIA). As required by IPERIA and the Bipartisan Budget Act of 2018, records maintained in this system will be disclosed to (1) a Federal or state agency, its employees, agents (including contractors of its agents) or contractors; or, (2) a fiscal or financial agent designated by the Bureau of the Fiscal Service or other Department of the Treasury bureau or office, including employees, agents or contractors of such agent; or, (3) a contractor of the Bureau of the Fiscal Service, for the purpose of identifying, preventing, and recovering improper payments to an applicant for, or recipient of, Federal funds, including funds disbursed by a state in a state-administered, federally-funded program. Records disclosed under this routine use may be used to conduct computerized comparisons to identify, prevent and recover improper payments, and to identify and mitigate fraud, waste, and abuse in federal payments. The disclosure may include applicant's name, home address, Social Security Number, income or financial data, date of birth, personal telephone number, and personal email address.

Z. To another Federal agency or Federal entity, when information from this system of records is reasonably necessary to assist the recipient agency or entity in (1) responding to a suspected or confirmed breach or (2) preventing, minimizing, mitigating, or remedying the risk of harm to individuals, the agency (including its information systems, programs, and operations), the Federal Government, or national security.

POLICIES AND PRACTICES FOR STORAGE OF RECORDS:

Records in this system of records are stored electronically on security measure protected (for example, e-authentication, password, restricted access protocol, etc.) databases, electronically on e-media devices (computer hard drive, magnetic disc, tape, digital media, CD, DVD, etc.), and on paper copy. Record storage is located within secured or locked facilities.

See also “Policies and Practices for Retrieval of Records,” “Policies and Practices for Retention and Disposal of Records,” “Administrative, Technical, and Physical Safeguards,” “Records Access Procedures,” and “Notification Procedures.”

POLICIES AND PRACTICES FOR RETRIEVEAL OF RECORDS:

Records may be retrieved by the individual's name, Social Security Number, tax identification number, loan number, and farm number.

POLICIES AND PRACTICES FOR RETENTION AND DISPOSAL OF RECORDS:

Records are maintained in file folders and Department computer systems at applicable locations as set out above under the heading “System Location.” Detailed retention and disposal instructions are provided in Records Control Schedule RG 0145: Farm Service Agency.

ADMINISTRATIVE, TECHNICAL, AND PHYSICAL SAFEGUARDS:

Records in this system of records are safeguarded in accordance with applicable rules and policies, including all applicable USDA automated systems security and access policies. Strict controls have been imposed to minimize the risk of compromising the information that is being stored. Access to the computer systems containing the records in this system of records is limited to those individuals who have a need to know the information for the performance of their official duties and who have appropriate clearances or permissions.

RECORDS ACCESS PROCEDURES:

To request notification of and access to any record contained in the system of records, or to contest the content of a record, submit a request in writing to the FSA FOIA officer or the FOIA officer for the relevant part of USDA responsible for your information (FIOA contact information is at http://www.da.usda.gov/foia.htm). If you believe more than one USDA agency maintains Privacy Act records concerning you, submit the request to the Chief FOIA Officer, Department of Agriculture, 1400 Independence Avenue SW, Washington, DC 20250.

When seeking records about yourself from this system of records or any other Departmental system of records, your request must conform with the Privacy Act regulations in 7 CFR 1.110-1.122, as follows. Verify your identity by providing your:

• Full name,

• Current address, and

• Date and place of birth.

You must sign your request, and your signature must either be notarized or submitted under 28 U.S.C. 1746, which is a law that permits statements to be made under penalty of perjury as a substitute for notarization. While no specific form is required, you may obtain forms for this purpose from the Chief FOIA Officer, Department of Agriculture, 1400 Independence Ave. SW, Washington, DC 20250. In addition, you should provide the following:

• Explain why you believe USDA would have information on you,

• Identify which USDA agency you believe may have the information about you,

• Specify when you believe the records would have been created, and

• Provide any other information that will help the FOIA staff determine which USDA component agency may have responsive records.

If your request is seeking records pertaining to another living individual, you must include a statement from that individual certifying agreement for you to access the records.

If your request does not include the information specified above, FSA may not be able to conduct an effective search, and may result in your request being denied due to lack of specificity or lack of compliance with applicable regulations.

CONTESTING RECORD PROCEDURES:

Individuals desiring to contest or amend information maintained in the system should direct their request to the above listed System Manager and should include the reason for contesting it and the proposed amendment to the information with supporting information to show how the record is inaccurate. A request for contesting records pertaining to an individual should contain:

• Name,

• Address,

• ZIP code,

• Name of system of record,

• Year of records in question, and

• Any other pertinent information to help identify the file.

NOTIFICATION PROCEDURES:

An individual may request information regarding this system of records or information as to whether the system contains records pertaining to the individual from the System Manager above.

EXEMPTIONS PROMULGATED FOR THE SYSTEM:

None.

HISTORY:

The prior document for this system of record was published on September 10, 20001 (66 FR 46986).

[FR Doc. 2019-05464 Filed 3-21-19; 8:45 am]

BILLING CODE 3410-05-P